DEPARTMENT OF THE INTERIOR

National Park Service

Environmental Impact Statement; Notice of Availability

AGENCY: National Park Service, Interior.

ACTION: Notice of availability of the Stream Management Plan, draft environmental impact statement, Herbert Hoover National Historic Site, Iowa.

SUMMARY: Pursuant to section 102(2)(C) of the National Environmental Policy Act of 1969, the National Park Service (NPS) announces the availability of the stream management plan draft environmental impact statement (EIS) for Herbert Hoover National Historic Site, Iowa.

DATES: There will be a 60-day public review period for comments on this document. Comments on the EIS must be received no later than 60 days after the Environmental Protection Agency publishes its notice of availability in the Federal Register. A public open house for information about, or to make comment on, the draft EIS will be announced in the local media and the Herbert Hoover National Historic Site's (Park) Web site when it is scheduled. Information about meeting time and place will be available by contacting the Park at 319-643-2541, visiting the Park's Web site at: http://www.nps.gov/heho/creek.htm, and at the NPS Planning, Environment, and Public Comment (PEPC) Web site http://parkplanning.nps.gov/. The document will also be available for review at each of these Web sites; the latter Web site allows the public to review and comment directly on this document.

ADDRESSES: Copies of the draft EIS are available by request by writing to the Superintendent, Stream Management Plan Draft EIS, Herbert Hoover National Historic Site, P.O. Box 607, West Branch, Iowa 52358, by phone 319-643-2541, at the Web site addresses mentioned above, and by e-mail message at HEHO_Resource_Management@nps.gov. The document can be picked-up in person at park headquarters at 110 Parkside Drive, West Branch, Iowa.

FOR FURTHER INFORMATION CONTACT: Superintendent, Stream Management Plan Draft EIS, Herbert Hoover National Historic Site, P.O. Box 607, West Branch, Iowa 52358, or by calling 319-643-2541.

SUPPLEMENTARY INFORMATION: During Herbert Hoover's early childhood, a small meandering stream ran near his birthplace cottage. This tributary of the west branch of the Wapsinonoc River has no official name and for ease of reference, it will be called Hoover Creek throughout the plan. Hoover Creek runs through the center of the historic site and has overflowed its banks and flooded park facilities 18 times in 11 years. These facilities include all of the prime historic structures associated with President Hoover as well as the visitor center and maintenance facility. Hoover Creek bank erosion and stream migration threaten to destabilize historic structures identified in the enabling legislation and the foundation of the Hoover Presidential Library and Museum. Slippery mud banks rise vertically 8 to 10 feet above the water level and present a safety hazard to visitors and employees. The Cultural Landscape Report (1995) states: “* * * the stream is a degraded, yet character defining feature of the site * * *” and recommends the restoration of the natural characteristics of the stream. Stream rehabilitation would restore stream and riparian function and protect critical resources.

Therefore, the Park is proposing to restore the riparian area and proper functioning condition of the stream to allow for reduction of the power of the stream and create greater holding capacity with a meandering stream and floodplain. The draft EIS describes and analyzes the environmental impacts of alternatives and their associated impacts. In the Park's Preferred Alternative (Alternative 5—Provide 50-year protection), this alternative would include changes to the stream channel dimensions, re-meandering and channel relocation, and installation of a grade control structure to control down cutting. This alternative would also include construction of a detention basin in the upstream reaches of Hoover Creek. Three additional action alternatives and a no action alternative are evaluated in this EIS.

Persons wishing to comment may do so by any one of several methods. They may attend the public hearing or open house noted above. They may mail comments to the Superintendent, Stream Management Plan Draft EIS, Herbert Hoover National Historic Site, P.O. Box 607, West Branch, Iowa 52358. They also may comment via e-mail to HEHO_Resource_Management@nps.gov (please include name and return address in the e-mail message). They may review and comment on the document directly at the PEPC Web site http://parkplanning.nps.gov/. Finally, they may hand-deliver comments to the Superintendent, Stream Management Plan Draft EIS, Herbert Hoover National Historic Site, 110 Parkside Drive, West Branch, Iowa.

It is the practice of the NPS to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses available for public inspection in their entirety.

The responsible official is Ernest Quintana, Regional Director, Midwest Region, National Park Service.

Dated: July 28, 2005.
Ernest Quintana,
Regional Director, Midwest Region.

[FR Doc. 05-17854 Filed 9-8-05; 8:45 am]

BILLING CODE 4312-94-P